DEPARTMENT OF HOMELAND SECURITY

Office of the Secretary

[Docket No. DHS-2013-0026]

Privacy Act of 1974; Department of Homeland Security/U.S. Citizenship and Immigration Services-015 Electronic Immigration System-2 Account and Case Management System of Records

AGENCY: Privacy Office, Department of Homeland Security.

ACTION: Notice of Privacy Act System of Records.

SUMMARY: In accordance with the Privacy Act of 1974, the Department of Homeland Security proposes to update and reissue a current Department of Homeland Security system of records titled, “Department of Homeland Security/U.S. Citizenship and Immigration Services-015 Electronic Immigration System-2 Account and Case Management System of Records.” This system of records allows the Department of Homeland Security/U.S. Citizenship and Immigration Services to: collect and maintain records on an individual after that individual submits a benefit request and/or creates or updates a U.S. Citizenship and Immigration Services Electronic Immigration System account; gather any missing information; manage workflow; assist U.S. Citizenship and Immigration Services in making a benefit determination; and provide a repository of data to assist with the efficient processing of future benefit requests. U.S. Citizenship and Immigration Services Electronic Immigration System-2 Account and Case Management will also be used to process and track all actions related to a particular case, including scheduling of biometrics appointments and interviews, requests for evidence or additional information, and issuing decision notices and/or proofs of benefit. This notice updates this system of records to (1) include additions to the categories of individuals and categories of records, (2) clarify routine uses “A,” “H,” “L,” and “M,” (3) delete routine use “S,” and (4) reflect a reduced retention period for attorney and accredited representative accounts. Additionally, this notice includes non-substantive changes to simplify the formatting and text of the previously published notices. The exemptions for the existing system of records notice will continue to be applicable for this system of records notice. Additionally, this system will continue to be included in the Department of Homeland Security's inventory of record systems.

Dates and Comments: Submit comments on or before May 6, 2013. In particular, DHS requests comments concerning the application of the exemptions to the newly added categories of individuals and category of records. This updated system will be effective May 6, 2013.

ADDRESSES: You may submit comments, identified by docket number DHS-2013-0026 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Donald K. Hawkins, (202) 272-8000, Privacy Officer, U.S. Citizenship and Immigration Services, 20 Massachusetts Avenue NW., Washington, DC 20529. For privacy questions, please contact: Jonathan R. Cantor, (202) 343-1717, Acting Chief Privacy Officer, Privacy Office, Department of Homeland Security, Washington, DC 20528.

SUPPLEMENTARY INFORMATION:

I. Background

In accordance with the Privacy Act of 1974, 5 U.S.C. 552a, the Department of Homeland Security (DHS) U.S. Citizenship and Immigration Services (USCIS) proposes to update and reissue a current DHS system of records titled, “DHS/USCIS-015 Electronic Immigration System-2 Account and Case Management System of Records” (November 15, 2011, 76 FR 70739).

USCIS is the component of DHS that oversees immigration benefit requests from foreign nationals seeking to enter, be admitted to, or currently residing in the United States. USCIS transformed its operations and created a new electronic environment known as USCIS Electronic Immigration System (USCIS ELIS), which allows individuals requesting USCIS benefits to create immigration accounts online and submit certain benefit requests.

Applicants and petitioners (Applicants); co-applicants, beneficiaries, derivatives, dependents, or other persons on whose behalf a benefit request is made or whose immigration status may be derived because of a relationship to an Applicant (Co-Applicants); and/or their attorneys and representatives recognized by USCIS and/or accredited by the Board of Immigration Appeals (Representatives) may create individualized online accounts. These online accounts help Applicants and their Representatives file for benefits, track the status of open benefit requests, schedule appointments, change their addresses and contact information, and receive notices and notifications regarding their cases. Through USCIS ELIS, individuals also may submit evidence electronically.

USCIS ELIS uses information provided on initial and subsequent benefit requests and subsequent information collections through the USCIS ELIS Account and Case Management process to create or update USCIS ELIS accounts; collect any missing information; manage workflow; assist USCIS adjudicators as they make benefit determinations; and provide a repository of data to assist with future benefit requests. In addition, USCIS ELIS processes and tracks all actions related to the case, including scheduling biometrics appointments and interviews, requesting evidence or additional information, and issuing decision notices and/or proofs of benefit.

This system of records is being updated and reissued to (1) include additions to the categories of individuals and categories of records, (2) clarify routine uses “A,” “H,” “L,” and “M,” (3) delete routine use “S,” and (4) reflect a reduced retention period for attorney and accredited representative accounts.

Categories of individuals are being updated to include Interpreters and Sponsors to better reflect the ways USCIS ELIS captures data and to include data to be collected as additional benefit types are incorporated into USCIS ELIS. Categories of records for Applicants and Co-Applicants are being updated to include:

• U.S. County;

• Fax Numbers;

• Notices and Communications;

• Other Immigration-Related Identification Numbers including:

○ Immigration and Customs Enforcement (ICE) Student and Exchange Visitor Number; and

○ USCIS E-Verify Company Identification Number;

• Tax Records;

• Travel History;

• Professional Accreditation Information; and

• Relationships to Sponsors, Representatives, Preparers, Co-Applicants, and other Applicants.

Categories of records for Representatives are being updated to include Signature.

Categories of Records for Interpreters are being added and include:

• Name;

• Organization;

• Physical and Mailing Addresses;

• Email Address;

• Phone and Fax Numbers;

• Relationship to Applicant;

• Whether Interpreters are Paid/Not Paid;

• Business State ID Number; and

• Signature.

Categories of records for Preparers are being updated to include:

• Whether Preparers or Interpreters are Paid/Not Paid;

• Business State ID Number; and

• Signature.

Categories of records about Sponsors are being added and include:

• Full Name;

• Gender;

• Physical and Mailing Addresses;

• Phone and Fax Numbers;

• Country of Domicile;

• Date of Birth;

• Place of Birth;

• Citizenship Information;

• Social Security Number (SSN);

• Alien Registration Number (A-Number);

• Employment Information;

• Financial Information;

• Position and Relationship to an Organization;

• Family Relationships and Relationship Practices; and

• Signature.

This updated notice clarifies the following routine uses. Routine use “A” has been updated to correct a grammatical error. Routine use “H” has been updated to clarify under which circumstances USCIS would release records to clerks and judges of courts exercising naturalization jurisdiction. Routine use “L” has been updated to read “requests” instead of “petitions or applications.” Routine use “M” has been updated to correct a typographical error. One routine use listed in the previous notice is omitted in this update. Previous routine use “S,” which provided disclosure to certain members of Congress, was deleted because it was duplicative to existing authorization to disclose records under 5 U.S.C. 552a(b)(9). Finally, this updated notice includes a note explaining that confidentiality laws and policies may limit the sharing of some information that may otherwise be shared under a valid routine use.

This updated notice also presents a different retention period for information about attorneys and accredited representatives. USCIS will propose to the National Archive and Records Administration that USCIS ELIS accounts for attorneys and accredited representatives be retained for 7 years, 6 months.

Information in this system comes from the USCIS Electronic Immigration System-1 (USCIS ELIS Temporary Accounts and Draft Benefit Requests), which stores draft account and case information from Applicants and their Representatives. Once that draft information is signed and formally submitted with payment to USCIS, it becomes part of this USCIS Electronic Immigration System-2 (USCIS ELIS Account and Case Management). Results from USCIS Electronic Immigration System-3 Automated Background Functions (USCIS ELIS Automated Background Functions) will also be stored in the individual's USCIS ELIS account and/or case. This includes information from other USCIS, DHS, and federal government systems to confirm identity, determine eligibility, and perform background checks. This USCIS ELIS Account and Case Management system may store information from other DHS systems including: DHS/USCIS/ICE/CBP (U.S. Customs and Border Patrol)-001 Alien File, Index, and National File Tracking System of Records; DHS/USCIS-006 Fraud Detection and National Security Data System (FDNS-DS); DHS/USCIS-007 Benefits Information System (BIS); DHS/USCIS-010 Asylum Information and Pre-Screening; DHS/USCIS-014 Electronic Immigration System-1 Temporary Accounts and Draft Benefit Requests System of Records (USCIS ELIS-1); DHS/USCIS-016 Electronic Immigration System-3 Automated Background Functions System of Records (USCIS ELIS-3); DHS/CBP-011—U.S. Customs and Border Protection TECS; DHS/ICE-001 Student and Exchange Visitor Information System (SEVIS); DHS/ICE-011 Immigration Enforcement Operational Records System (ENFORCE); DHS/USVISIT (United States Visitor and Immigrant Status Indicator Technology)-001 Arrival and Departure Information System (ADIS); and DHS/USVISIT-004 DHS Automated Biometric Identification System (IDENT).

Furthermore, USCIS ELIS Account and Case Management may store information from systems outside of DHS, including: Overseas Citizens Services Records, STATE-05; Passport Records, STATE-26; Visa Records, STATE-39; JUSTICE/EOIR (Department of Justice, Executive Office for Immigration Review)-001 Records and Management Information System; JUSTICE/FBI (Department of Justice, Federal Bureau of Investigations)-002 FBI Central Records System; JUSTICE/FBI-009 Fingerprint Identification Records System (FIRS); and TREASURY/FMS (Department of Treasury, Financial Management Service)-017 Collections Records.

USCIS ensures that all USCIS ELIS employees receive training and agree to USCIS-wide system rules of behavior before being granted access. USCIS provides security awareness training to all information system users (including managers, senior executives, and contractors) as part of initial training for new users, when required by system changes, and annually thereafter. DHS personnel and contractors with significant security responsibilities (e.g., adjudicators and system administrators) initially receive specialized training on USCIS ELIS functionality that is specific to their security responsibilities prior to being granted access to DHS systems. Thereafter, DHS personnel and contractors must complete annual refresher training.

USCIS collects, uses, and maintains account and case management information pursuant to Sections 103 and 290 of the INA (8 U.S.C. 1103 and 1360), and the regulations issued pursuant thereto; and Section 451 of the Homeland Security Act of 2002 (Pub. L. 107-296).

Consistent with DHS's information sharing mission, information stored in the DHS/USCIS-015 Electronic Immigration Services-2 Account and Case Management, may be shared with other DHS components that have a need to know the information to carry out their national security, law enforcement, immigration, intelligence, or other homeland security functions. In addition, information may be shared with appropriate federal, state, local, tribal, territorial, foreign, or international government agencies consistent with the routine uses set forth in this system of records notice.

Additionally, DHS has issued a Final Rule, 76 FR 70638, to exempt this system of records from certain provisions of the Privacy Act pursuant to 5 U.S.C. 552a(k)(2). The exemptions for the existing system of records notice will continue to be applicable for this system of records notice. DHS is requesting comments concerning the application of the exemptions to the newly added categories of individuals and category of records.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCIS-015 Electronic Immigration System-2 Account and Case Management System of Records.

In accordance with 5 U.S.C. 552a(r), DHS has provided a report of this system of records to the Office of Management and Budget (OMB) and to Congress.

System of Records

DHS/USCIS-015

System name:

DHS/USCIS-015 Electronic Immigration System-2 Account and Case Management System of Records

Security classification:

Unclassified, sensitive, for official use only, and/or law enforcement sensitive.

System location:

Records are maintained in USCIS ELIS and associated electronic and paper files located at USCIS Headquarters in Washington, DC and in USCIS service centers and field offices.

Categories of individuals covered by the system:

USCIS ELIS Account and Case Management stores and/or uses information about individuals who request and/or receive immigration benefits under the INA. These individuals include: applicants and petitioners (Applicants); co-applicants, beneficiaries, derivatives, dependents, or other persons on whose behalf a benefit request is made or whose immigration status may be derived because of a relationship to an Applicant (Co-Applicants); members of organizations petitioning for benefits under the INA on behalf of, or contributing to, the financial support of an Applicant or Co-Applicant (Sponsors); attorneys and representatives recognized by USCIS and/or accredited by the Board of Immigration Appeals (Representatives); Interpreters; and individuals who assist in the preparation of the benefit request (Preparers).

Categories of records in the system:

Account information about Applicants and Co-Applicants may include:

• USCIS ELIS Account Number;

• A-Number(s);

• Family Name;

• Given Name;

• Middle Name;

• Alias(es);

• Physical and Mailing Address(es):

○ Address

○ Unit Number

○ City

○ State

○ ZIP Code

○ Postal Code

○ U.S. County

○ Province

○ Country

• Date of Birth;

• Deceased Date;

• Nationality;

• Country of Citizenship;

• City of Birth;

• State of Birth;

• Province of Birth;

• Country of Birth;

• Gender;

• Marital Status;

• Military Status;

• Preferred Contact Method;

• Phone and Fax Numbers;

• Phone Extension;

• Email Address;

• Password;

• Challenge Questions and Answers;

• Immigration Status;

• Government-issued Identification (e.g., passport, driver's license):

○ Document Type

○ Issuing Organization

○ Document Number

○ Expiration Date

• Benefit Requested;

• Notices and Communications, including:

○ Receipt Notices

○ Requests for Evidence

○ Notices of Intent to Deny

○ Account Update Notifications

○ Proofs of Benefit

o Statements of Findings

• Signature (electronic or scanned physical signature);

• Pay.gov Payment Tracking Number;

• IP Address and Browser Information as part of the E-Signature;

• USCIS ELIS Case Submission Confirmation Number.

Benefit-specific eligibility information about Applicants and Co-Applicants may include:

• Other Immigration-Related Identification Numbers (e.g., DOS-Issued Personal Identification Number, ICE Student and Exchange Visitor Number, USCIS E-Verify Company Identification Number);

• Arrival/Departure Information;

• Immigration History (e.g., citizenship/naturalization certificate number, removals, explanations);

• Family Relationships (e.g., parent, spouse, sibling, child, other dependents) and Relationship Practices (e.g., polygamy, custody, guardianship);

• USCIS Receipt/Case Number;

• Personal Background Information (e.g., involvement with national security threats, criminal offenses, Communist party, torture, genocide, killing, injuring, forced sexual contact, limiting or denying others religious beliefs, service in military or other armed groups, work in penal or detention systems, weapons distribution, combat training);

• Health Information (e.g., vaccinations, referrals, communicable diseases, physical or mental disorders, prostitution, drug or alcohol abuse);

• Travel History;

• Education History;

• Work History;

• Professional Accreditation Information;

• Financial Information (e.g., income, expenses, scholarships, savings, assets, property, financial support, supporter information, life insurance, debts, encumbrances, tax records);

• SSN, if applicable;

• Supporting documentation as necessary (e.g., birth, marriage, and/or divorce certificates, appeals or motions to reopen or reconsider decisions, explanatory statements, and unsolicited information submitted voluntarily by the Applicants or Co-Applicants in support of a benefit request);

• Physical Description (e.g., height, weight, eye color, hair color, identifying marks like tattoos or birthmarks);

• Fingerprint(s);

• Photographs;

• FBI Identification Number;

• Fingerprint Identification Number;

• Criminal Records;

• Criminal and National Security Background Check Information;

• Relationships to Sponsors, Representatives, Preparers, Co-Applicants, and other Applicants.

Information about Sponsors may include:

• Full Name;

• Gender;

• Physical and Mailing Addresses:

○ Address

○ Unit Number

○ City

○ State

○ ZIP Code

○ Postal Code

○ U.S. County

○ Province

○ Country

• Phone and Fax Numbers;

• Country of Domicile;

• Date of Birth;

• City of Birth;

• State of Birth;

• Province of Birth;

• Country of Birth;

• Citizenship Information;

• SSN;

• A-Number;

• Employment Information;

• Financial Information (e.g., income, expenses, scholarships, savings, assets, property, financial support, supporter information, life insurance, debts, encumbrances, tax records);

• Position and Relationship to an Organization (e.g., manager of a company seeking formal recognition by USCIS);

• Family Relationships (e.g., parent, spouse, sibling, child, other dependents) and Relationship Practices (e.g., polygamy, custody, guardianship);

• Signature (electronic or scanned physical signature).

Information about Representatives may include:

• Name;

• Law Firm/Recognized Organization;

• Physical and Mailing Addresses:

○ Address

○ Unit Number

○ City

○ State

○ ZIP Code

○ Postal Code

○ U.S. County

○ Province

○ Country

• Phone and Fax Numbers;

• Email Address;

• Attorney Bar Card Number or Equivalent;

• Bar Membership;

• Accreditation Date;

• Board of Immigration Appeals Representative Accreditation;

• Expiration Date;

• Law Practice Restriction Explanation;

• Signature (electronic or scanned physical signature);

Information about Preparers and Interpreters may include:

• Full Name;

• Organization;

• Business State ID Number;

• Physical and Mailing Addresses:

○ Address

○ Unit Number

○ City

○ State

○ ZIP Code

○ Postal Code

○ U.S. County

○ Province

○ Country

• Email Address;

• Phone and Fax Numbers;

• Paid/Not Paid (i.e., whether the Preparer or Interpreter was paid for assisting the Applicant or Sponsor in completing or submitting the benefit request);

• Relationship to Applicant;

• Signature (electronic or scanned physical signature).

Authority for maintenance of the system:

Authority for maintaining this system is in Sections 103 and 290 of the INA, as amended (8 U.S.C. 1103 and 1360), and the regulations issued pursuant thereto; and Section 451 of the Homeland Security Act of 2002 (Pub. L. 107-296).

Purpose(s):

The purpose of this system is to manage USCIS ELIS on-line applicant, representative, and organizational accounts; gather information related to a benefit request; manage workflow; generate reports; assist USCIS adjudicators in making a benefit determination; and provide a repository of data to assist with future benefit requests. In addition, the USCIS ELIS Account and Case Management process will be used to process and track all actions related to the case, including scheduling of biometrics appointments and interviews, requesting evidence or additional information, and issuing decision notices and/or proofs of benefit.

Routine uses of records maintained in the system, including categories of users and the purposes of such uses:

Note: Even when a valid routine use permits disclosure of information from this system of records to a third party, in some cases such disclosure may not be permissible because of confidentiality laws and policies that limit the sharing of information about the application for or award of certain immigration benefits. For example, information in this system of records contained in or pertaining to applications for asylum or refugee protection, information relating to persons who have pending or approved petitions for protection under the Violence Against Women Act, Seasonal Agricultural Worker or Legalization claims, the Temporary Protected Status of an individual, and information relating to S, T, or U nonimmigrant visas should not be disclosed pursuant to a routine use unless disclosure is otherwise permissible under the confidentiality statutes, regulations, or policies applicable to that information. These confidentiality provisions do not prevent DHS from disclosing information to the U.S. Department of Justice (DOJ) and U.S. Attorneys' Offices as part of an ongoing criminal or civil investigation.

In addition to those disclosures generally permitted under 5 U.S.C. § 552a(b) of the Privacy Act, all or a portion of the records or information contained in this system may be disclosed outside DHS as a routine use pursuant to 5 U.S.C. § 552a(b)(3) as follows:

A. To DOJ, including U.S. Attorneys' Offices, or other federal agencies conducting litigation or in proceedings before any court, adjudicative or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To clerks and judges of courts exercising naturalization jurisdiction to review naturalization decisions, entertain requests for hearings, or consider the revocation of naturalization, and to enable those courts to determine whether a naturalization case should be remanded to DHS, whether an individual is eligible for naturalization, or if an individual previously granted naturalization should have naturalization revoked.

I. To courts, magistrates, administrative tribunals, opposing counsel, parties, and witnesses, in the course of immigration, civil, or criminal proceedings before a court or adjudicative body when:

1. DHS or any component thereof; or

2. Any employee of DHS in his or her official capacity; or

3. Any employee of DHS in his or her individual capacity when the agency has agreed to represent the employee; or

4. The United States, when DHS determines that litigation is likely to affect DHS or any of its components; is a party to litigation or has an interest in such litigation, and DHS determines that use of such records is relevant and necessary to the litigation, and that in each case, DHS determines that disclosure of the information to the recipient is compatible with the purpose for which it was collected.

J. To an attorney or representative (as defined in 8 CFR 1.1(j)) who is acting on behalf of an individual covered by this system of records in connection with any proceeding before USCIS, ICE, CBP, or DOJ EOIR.

K. To DOJ (including United States Attorneys' Offices) or other federal agencies conducting litigation or in proceedings before any court, adjudicative, or administrative body, when necessary to assist in the development of such agency's legal and/or policy position.

L. To DOS in the processing of requests for benefits under the INA, and all other immigration and nationality laws including treaties and reciprocal agreements; or when DOS requires information to consider and/or provide an informed response to a request for information from a foreign, international, or intergovernmental agency, authority, or organization about an alien or an enforcement operation with transnational implications.

M. To an appropriate federal, state, local, tribal, territorial, or foreign government agency or organization, as well as to other individuals and organizations during the course of an investigation by DHS or the processing of a matter under DHS's jurisdiction, or during a proceeding within the purview of the immigration and nationality laws, when DHS deems that such disclosure is necessary to carry out its functions and statutory mandates or to elicit information required by DHS to carry out its functions and statutory mandates.

N. To an appropriate federal, state, local, tribal, territorial, or foreign government agency or organization, or international organization, lawfully engaged in collecting law enforcement intelligence, whether civil or criminal, or charged with investigating, prosecuting, enforcing or implementing civil or criminal laws, related rules, regulations or orders, to enable these entities to carry out their law enforcement responsibilities, including the collection of law enforcement intelligence, and the disclosure is appropriate to the proper performance of the official duties of the person receiving the information.

O. To an appropriate federal, state, local, tribal, territorial, or foreign government agency or organization, or international organization, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant, or other benefit.

P. To an individual's current employer to the extent necessary to determine employment eligibility or to a prospective employer or government agency to verify an individual is eligible for a government-issued credential that is a condition of employment.

Q. To a former employee of DHS, in accordance with applicable regulations, for purposes of: responding to an official inquiry by a federal, state, or local government entity or professional licensing authority; or facilitating communications with a former employee that may be necessary for personnel-related or other official purposes when the Department requires information or consultation assistance from the former employee regarding a matter within that person's former area of responsibility.

R. To OMB in connection with the review of private relief legislation as set forth in OMB Circular No. A-19 at any stage of the legislative coordination and clearance process as set forth in the Circular.

S. To a federal, state, tribal, or local government agency and/or to domestic courts to assist such agencies in collecting the repayment of loans, or fraudulently or erroneously secured benefits, grants, or other debts owed to them or to the U.S. Government, or to obtain information that may assist DHS in collecting debts owed to the U.S. Government.

T. To an individual or entity seeking to post or arrange, or who has already posted or arranged, an immigration bond for an alien to aid the individual or entity in (1) identifying the location of the alien, or (2) posting the bond, obtaining payments related to the bond, or conducting other administrative or financial management activities related to the bond.

U. To a coroner for purposes of affirmatively identifying a deceased individual (whether or not such individual is deceased as a result of a crime).

V. Consistent with the requirements of the INA, to the Department of Health and Human Services (HHS), the Centers for Disease Control and Prevention, or to any state or local health authorities, to:

1. Provide proper medical oversight of DHS-designated civil surgeons who perform medical examinations of both arriving aliens and of those requesting status as lawful permanent residents; and

2. Ensure that all health issues potentially affecting public health and safety in the United States are being or have been adequately addressed.

W. To a federal, state, local, tribal, or territorial government agency seeking to verify or ascertain the citizenship or immigration status of any individual within the jurisdiction of the agency for any purpose authorized by law.

X. To the Social Security Administration (SSA) for the purpose of issuing a SSN and Social Security card to an alien who has made a request for a SSN as part of the immigration process and in accordance with any related agreements in effect between the SSA, DHS, and DOS entered into pursuant to 20 CFR §§ 422.103(b)(3); 422.103(c); and 422.106(a), or other relevant laws and regulations.

Y. To federal and foreign government intelligence or counterterrorism agencies or components where DHS becomes aware of an indication of a threat or potential threat to national or international security, or where such use is to conduct national intelligence and security investigations or assist in anti-terrorism efforts.

Z. To third parties to facilitate placement or release of an individual (e.g., at a group home, homeless shelter) who has been or is about to be released from DHS custody but only such information that is relevant and necessary to arrange housing or continuing medical care for the individual.

AA. To foreign governments for the purpose of coordinating and conducting the removal of individuals to other nations under the INA; and to international, foreign, and intergovernmental agencies, authorities, and organizations in accordance with law and formal or informal international arrangements.

BB. To a federal, state, local, territorial, tribal, international, or foreign criminal, civil, or regulatory law enforcement authority when the information is necessary for collaboration, coordination, and de-confliction of investigative matters, prosecutions, and/or other law enforcement actions to avoid duplicative or disruptive efforts and to ensure the safety of law enforcement officers who may be working on related law enforcement matters.

CC. To the DOJ Federal Bureau of Prisons and other federal, state, local, territorial, tribal, and foreign law enforcement or custodial agencies for the purpose of placing an immigration detainer on an individual in that agency's custody, or to facilitate the transfer of custody of an individual from DHS to the other agency. This will include the transfer of information about unaccompanied minor children to HHS to facilitate the custodial transfer of such children from DHS to HHS.

DD. To federal, state, local, tribal, territorial, or foreign governmental or quasi-governmental agencies or courts to confirm the location, custodial status, removal, or voluntary departure of an alien from the United States, in order to facilitate the recipients' exercise of responsibilities pertaining to the custody, care, or legal rights (including issuance of a U.S. passport) of the removed individual's minor children, or the adjudication or collection of child support payments or other debts owed by the removed individual.

EE. To federal, state, tribal, territorial, local, international, or foreign government agency or entity for the purpose of consulting with that agency or entity:

1. To assist in making a determination regarding redress for an individual in connection with the operations of a DHS component or program;

2. For the purpose of verifying the identity of an individual seeking redress in connection with the operations of a DHS component or program; or

3. For the purpose of verifying the accuracy of information submitted by an individual who has requested such redress on behalf of another individual.

FF. To the Department of Treasury to process and resolve payment issues.

GG. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records may be stored on magnetic disc, tape, and/or digital media.

Retrievability:

Records may be retrieved by any of the data elements listed above or a combination thereof.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

USCIS is currently working with NARA to establish and publish the proposed USCIS ELIS records retention schedules. USCIS currently plans to retain all account information and supporting evidence for 100 years after the account holder's date of birth, or 15 years from last action, whichever is later. Permanent accounts (e.g., for applicants who currently have A-files) and related case snapshots and supporting evidence are permanent and will be transferred to the custody of NARA 100 years after the individual's date of birth. Non-immigrant case information and supporting evidence will be stored for 15 years from last action. Representative accounts will be stored for 7 years, 6 months from last action. U.S. citizen accounts and cases will be archived internally after five years. All accounts and cases will be put in an inactive status 15 years after last action.

Records that are linked to national security, law enforcement, or fraud investigations or cases, will remain accessible for the life of the related activity, to the extent retention for such purposes exceeds the normal retention period for such data in USCIS ELIS. USCIS is reviewing its needs for the information as it transitions to a fully electronic environment and may amend its retention plans and schedules as needed.

USCIS proposes that, in compliance with NARA General Records Schedule 24, section 6, “User Identification, Profiles, Authorizations, and Password Files,” internal USCIS personnel accounts will be destroyed or deleted six years after the account is terminated, or when no longer needed for investigative or security purposes, whichever is later.

System Manager and address:

The DHS system manager is the Chief, Office of Transformation Coordination, U.S. Citizenship and Immigration Services, Department of Homeland Security, 633 3rd Street NW., Washington, DC 20529.

Notification procedure:

Applicants may access and amend this information by logging into their USCIS ELIS account. Individuals seeking notification of and access to any record contained in this system of records, or seeking to contest its content, may submit a request in writing to the National Records Center (NRC) FOIA/PA Office, P.O. Box 648010, Lee's Summit, MO 64064-8010. NRC's contact information can be found at http://www.dhs.gov/foia under “Contacts.” If an individual believes that more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 CFR Part 5. You must first verify your identity, meaning you must provide your full name, current address, and date and place of birth. You must sign your request, and your signature must be either notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his/her agreement for you to access his/her records.

Without the above information, the component(s) may not be able to conduct an effective search, and the request may be denied due to lack of specificity or lack of compliance with applicable regulations.

Record access procedures:

See “Notification procedure” above.

Contesting record procedures:

See “Notification procedure” above.

Record source categories:

Records are obtained from the Applicant, the primary Applicant for a Co-Applicant, Sponsor, his or her Representative, Preparer, or Interpreter. USCIS personnel may input information as they process a case, including information from commercial sources to verify whether an Applicant or Co-Applicant is eligible for the benefit requested. USCIS ELIS Account and Case Management will also store and use information from the following USCIS, DHS, and other federal agency systems of records:

• DHS/USCIS/ICE/CBP-001 Alien File, Index, and National File Tracking System of Records, 76 FR 34233 (June 13, 2011);

• DHS/USCIS-007 Benefits Information System, 73 FR 56596 (September 29, 2008);

• DHS/USCIS-010 Asylum Information and Pre-Screening, 75 FR 409 (January 5, 2010);

• DHS/USCIS-006 Fraud Detection and National Security Records (FDNS) 77 FR 47411 (August 8, 2012);

• DHS/USCIS-014 Electronic Immigration System-1 Temporary Accounts and Draft Benefit Requests System of Records, 76 FR 70730 (November 15, 2011);

• DHS/USCIS-016 Electronic Immigration System-3 Automated Background Functions System of Records, 76 FR 70735 (November 15, 2011);

• DHS/CBP-011 U.S. Customs and Border Protection TECS, 73 FR 77778 (December 19, 2008);

• DHS/ICE-001 Student and Exchange Visitor Information System, 75 FR 412 (January 5, 2010);

• DHS/ICE-011 Immigration and Enforcement Operational Records System (ENFORCE), 75 FR 23274 (May 3, 2010);

• DHS/USVISIT-001 Arrival and Departure Information System (ADIS), 72 FR 47057 (August 22, 2007);

• DHS/USVISIT-004 DHS Automated Biometric Identification System (IDENT), 72 FR 31080 (June 5, 2007);

• Overseas Citizens Services Records, STATE-05, 73 FR 24343 (May 2, 2008);

• Passport Records, STATE-26, 76 FR 34966 (July 6, 2011);

• Visa Records, STATE-39, 77 FR 65245 (October 25, 2012);

• JUSTICE/EOIR-001 Records and Management Information System, 72 FR 3410 (January 25, 2007);

• JUSTICE/FBI-002 The FBI Central Records System, 72 FR 3410 (January 25, 2007);

• JUSTICE/FBI-009 Fingerprint Identification Records System (FIRS), 72 FR 3410 (January 25, 2007); and

• TREASURY/FMS-017 Collections Records, 74 FR 23006 (May 15, 2009).

Exemptions claimed for the system:

The Secretary of Homeland Security has exempted this system from the following provisions of the Privacy Act pursuant to 5 U.S.C. 552a(k)(2): 5 U.S.C. 552a(c)(3); (d); (e)(1), (e)(4)(G), (e)(4)(H), (e)(4)(I); and (f). Additionally, many of the functions in this system require retrieving records from law enforcement systems. When a record received from another system has been exempted in that source system under 5 U.S.C. 552a(j)(2), DHS will claim the same exemptions for those records that are claimed for the original primary systems of records from which they originated and claims any additional exemptions set forth here.

Dated: March 22, 2013.
Jonathan R. Cantor,
Acting Chief Privacy Officer, Department of Homeland Security.

[FR Doc. 2013-07725 Filed 4-4-13; 8:45 am]

BILLING CODE 9111-97-P